DEPARTMENT OF COMMERCE

International Trade Administration

[A-588-846]

Hot-Rolled Flat-Rolled Carbon-Quality Steel Products from Japan: Extension of Time Limit for Final Results of Antidumping Administrative Review

AGENCY: Import Administration, International Trade Administration, Department of Commerce.

ACTION: Notice of extension of time limit for final results of administrative review.

EFFECTIVE DATE: November 15, 2001.

FOR FURTHER INFORMATION CONTACT: Doug Campau or Maureen Flannery, AD/CVD Enforcement, Import Administration, International Trade Administration, U.S. Department of Commerce, 14th Street and Constitution Avenue, NW., Washington, DC 20230; telephone: (202) 482-1395 or (202) 482-3020, respectively.

The Applicable Statute

Unless otherwise indicated, all citations to the statute are references to the provisions effective January 1, 1995, the effective date of the amendments made to the Tariff Act of 1930 (the Act) by the Uruguay Round Agreements Act. In addition, unless otherwise indicated, all citations to the Department's regulations are to the current regulations, codified at 19 CFR part 351 (2001).

Background

The Department published in the Federal Register an antidumping duty order on certain hot-rolled, flat-rolled, carbon-quality steel products (hot-rolled steel) from Japan on June 29, 1999 (64 FR 34778). On June 30, 2000, the Department received a timely request from Kawasaki Steel Corporation to conduct an administrative review pursuant to section 351.213(b)(2) of the Department's regulations. We published a notice of initiation of this antidumping duty administrative review on hot-rolled steel on July 31, 2000 (64 FR 46687). On July 10, 2001, the Department published the preliminary results of this antidumping administrative review. See Hot-Rolled Flat-Rolled Carbon-Quality Steel Products from Japan: Preliminary Results of Antidumping Administrative Review, 66 FR 35928 (July 10, 2001). The final results of this review are currently due November 7, 2001.

Extension of Time Limits for Final Results

Due to extensive arguments on cost issues, and the complexities involved in analyzing the level of trade issue in this review, it is not practicable to complete the review within the initial time limits mandated by section 751(a)(3)(A) of the Act. Therefore, we are extending the due date for the final results of this review until January 7, 2002.

Dated: November 5, 2001.
Joseph A. Spetrini,
Deputy Assistant Secretary for Import Administration, Group III.

[FR Doc. 01-28639 Filed 11-14-01; 8:45 am]

BILLING CODE 3510-DS-P